DEPARTMENT OF HOMELAND SECURITY

Federal Emergency Management Agency

[Docket ID FEMA-2016-0002; Internal Agency Docket No. FEMA-B-1668]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: December 21, 2016.
Roy E. Wright,
Deputy Associate Administrator for Insurance and Mitigation, Department of Homeland Security, Federal Emergency Management Agency.

State and county | Location and case No. | Chief executive officer of community | Community map repository | Online location of letter of map revision | Effective date of modification | Community No.
Alabama:
Jefferson | City of Birmingham (16-04-6488P) | The Honorable William A. Bell, Sr., Mayor, City of Birmingham, 710 20th Street North, 3rd Floor, Birmingham, AL 35203 | City Hall, 710 20th Street North, 3rd Floor, Birmingham, AL 35203 | http://www.msc.fema.gov/lomc | Feb. 21, 2017 | 010116
Jefferson | Unincorporated areas of Jefferson County (16-04-6488P) | The Honorable James A. Stephens, Chairman, Jefferson County Commission, 716 Richard Arrington Jr. Boulevard North, Birmingham, AL 35203 | Jefferson County Land Development Department, 716 Richard Arrington Jr. Boulevard North, Birmingham, AL 35203 | http://www.msc.fema.gov/lomc | Feb. 21, 2017 | 010217
Colorado:
Mesa | City of Grand Junction (16-08-0727P) | Mr. Greg Caton, Manager, City of Grand Junction, 250 North 5th Street, Grand Junction, CO 81501 | City Hall, 250 North 5th Street, Grand Junction, CO 81501 | http://www.msc.fema.gov/lomc | Mar. 6, 2017 | 080117
Mesa | Unincorporated areas of Mesa County (16-08-0612P) | The Honorable John Justman, Chairman, Mesa County Board of Commissioners, 544 Rood Avenue, 3rd Floor, Grand Junction, CO 81501 | Mesa County Central Services Department, 200 South Spruce Street, Grand Junction, CO 81501 | http://www.msc.fema.gov/lomc | Mar. 9, 2017 | 080115
Mesa | Unincorporated areas of Mesa County (16-08-0727P) | The Honorable John Justman, Chairman, Mesa County Board of Commissioners, 544 Rood Avenue, 3rd Floor, Grand Junction, CO 81501 | Mesa County Central Services Department, 200 South Spruce Street, Grand Junction, CO 81501 | http://www.msc.fema.gov/lomc | Mar. 6, 2017 | 080115
Florida:
Broward | City of Hallandale Beach (16-04-8271P) | The Honorable Joy Cooper, Mayor, City of Hallandale Beach, 400 South Federal Highway, Hallandale Beach, FL 33009 | Development Services Department, 400 South Federal Highway, Hallandale Beach, FL 33009 | http://www.msc.fema.gov/lomc | Mar. 20, 2017 | 125110
Broward | City of Hollywood (16-04-8271P) | The Honorable Peter Bober, Mayor, City of Hollywood, P.O. Box 229045, Hollywood, FL 33022 | City Hall, 2600 Hollywood Boulevard, Hollywood, FL 33020 | http://www.msc.fema.gov/lomc | Mar. 20, 2017 | 125113
Broward | Unincorporated areas of Broward County (16-04-8271P) | The Honorable Marty Kiar, Mayor, Broward County Board of Commissioners, 115 South Andrews Avenue, Room 421, Fort Lauderdale, FL 33301 | Broward County Environmental Licensing and Building Permitting Division, 1 North University Drive, Plantation, FL 33324 | http://www.msc.fema.gov/lomc | Mar. 20, 2017 | 125093
Collier | City of Naples (16-04-7943P) | The Honorable Bill Barnett, Mayor, City of Naples, 735 8th Street South, Naples, FL 34102 | Building Department, 295 Riverside Circle, Naples, FL 34102 | http://www.msc.fema.gov/lomc | Mar. 8, 2017 | 125130
Collier | Unincorporated areas of Collier County (16-04-8239P) | The Honorable Donna Fiala, Chair, Collier County Board of Commissioners, 3299 Tamiami Trail East, Suite 303, Naples, FL 34112 | Collier County Administration Department, 3301 East Tamiami Trail, Building F, 1st Floor, Naples, FL 34112 | http://www.msc.fema.gov/lomc | Mar. 9, 2017 | 120067
Lee | Unincorporated areas of Lee County (16-04-4523P) | The Honorable Frank Mann, Chairman, Lee County Board of Commissioners, 2120 Main Street, Fort Myers, FL 33901 | Lee County Community Development Department, 1500 Monroe Street, Fort Myers, FL 33901 | http://www.msc.fema.gov/lomc | Mar. 3, 2017 | 125124
Miami-Dade | City of Miami (16-04-6380P) | The Honorable Tomás P. Regalado, Mayor, City of Miami, 3500 Pan American Drive, Miami, FL 33133 | Building Department, 444 Southwest 2nd Avenue, 4th Floor, Miami, FL 33130 | http://www.msc.fema.gov/lomc | Mar. 8, 2017 | 120650
Miami-Dade | City of Miami (16-04-7155P) | The Honorable Tomás P. Regalado, Mayor, City of Miami, 3500 Pan American Drive, Miami, FL 33133 | Building Department, 444 Southwest 2nd Avenue, 4th Floor, Miami, FL 33130 | http://www.msc.fema.gov/lomc | Mar. 3, 2017 | 120650
Monroe | Unincorporated areas of Monroe County (16-04-7782P) | The Honorable Heather Carruthers, Mayor, Monroe County Board of Commissioners, 500 Whitehead Street, Suite 102, Key West, FL 33040 | Monroe County Building Department, 2798 Overseas Highway, Marathon, FL 33050 | http://www.msc.fema.gov/lomc | Mar. 8, 2017 | 125129
Orange | City of Orlando (16-04-5226P) | The Honorable Buddy Dyer, Mayor, City of Orlando, 400 South Orange Avenue, Orlando, FL 32802 | Public Works Department, 400 South Orange Avenue, Orlando, FL 32802 | http://www.msc.fema.gov/lomc | Mar. 10, 2017 | 120186
Sarasota | Unincorporated areas of Sarasota County (16-04-4948P) | The Honorable Alan Maio, Chairman, Sarasota County Board of Commissioners, 1660 Ringling Boulevard, Sarasota, FL 34236 | Sarasota County Development Services Department, 1001 Sarasota Center Boulevard, Sarasota, FL 34240 | http://www.msc.fema.gov/lomc | Mar. 20, 2017 | 125144
Maryland: Garrett | Unincorporated areas of Garrett County (16-03-2576P) | Mr. Kevin G. Null, Garrett County Administrator, 203 South 4th Street, Room 207, Oakland, MD 21550 | Garrett County Department of Permits and Inspection Services, 203 South 4th Street, Room 208, Oakland, MD 21550 | http://www.msc.fema.gov/lomc | Mar. 10, 2017 | 240034
Massachusetts:
Norfolk | City of Quincy (16-01-0647P) | The Honorable Thomas P. Koch, Mayor, City of Quincy, 1305 Hancock Street, Quincy, MA 02169 | Department of Public Works, 55 Sea Street, Quincy, MA 02169 | http://www.msc.fema.gov/lomc | Mar. 1, 2017 | 255219
Norfolk | City of Quincy (16-01-2803P) | The Honorable Thomas P. Koch, Mayor, City of Quincy, 1305 Hancock Street, Quincy, MA 02169 | Department of Public Works, 55 Sea Street, Quincy, MA 02169 | http://www.msc.fema.gov/lomc | Mar. 13, 2017 | 255219
New Mexico:
Bernalillo | City of Albuquerque (16-06-1689P) | The Honorable Richard J. Berry, Mayor, City of Albuquerque, P.O. Box 1293, Albuquerque, NM 87103 | Planning Development and Building Services Division, 600 2nd Street Northwest, Albuquerque, NM 87102 | http://www.msc.fema.gov/lomc | Feb. 27, 2017 | 350002
Bernalillo | City of Albuquerque (16-06-2885P) | The Honorable Richard J. Berry, Mayor, City of Albuquerque, P.O. Box 1293, Albuquerque, NM 87103 | Planning Development and Building Services Division, 600 2nd Street Northwest, Albuquerque, NM 87102 | http://www.msc.fema.gov/lomc | Mar. 7, 2017 | 350002
Bernalillo | Unincorporated areas of Bernalillo County (16-06-1689P) | The Honorable Art De La Cruz, Chairman, Bernalillo County Board of Commissioners, 1 Civic Plaza Northwest, Albuquerque, NM 87102 | Bernalillo County Public Works Division, 2400 Broadway Southeast, Albuquerque, NM 87102 | http://www.msc.fema.gov/lomc | Feb. 27, 2017 | 350001
Taos | Town of Taos (16-06-2418P) | The Honorable Daniel R. Barrone, Mayor, Town of Taos, 400 Camino De La Placita, Taos, NM 87571 | Planning, Zoning and Community Development Department, 400 Camino De La Placita, Taos, NM 87571 | http://www.msc.fema.gov/lomc | Mar. 17, 2017 | 350002
Taos | Unincorporated areas of Taos County (16-06-2418P) | Mr. Leandro Cordova, Manager, Taos County, 105 Albright Street, Taos, NM 87571 | Taos County Planning Department, 105 Albright Street, Taos, NM 87571 | http://www.msc.fema.gov/lomc | Mar. 17, 2017 | 350078
North Carolina:
Craven | City of Havelock (16-04-6818P) | The Honorable William Lewis, Mayor, City of Havelock, P.O. Box 368, Havelock, NC 28532 | Planning and Inspections Department, 1 Governmental Avenue, Havelock, NC 28532 | http://www.msc.fema.gov/lomc | Feb. 23, 2017 | 370265
Craven | Unincorporated areas of Craven County (16-04-6818P) | The Honorable George S. Liner, Chairman, Craven County Board of Commissioners, 406 Crave Street, New Bern, NC 28560 | Craven County Planning and Community Development Department, 2828 Neuse Boulevard, New Bern, NC 28562 | http://www.msc.fema.gov/lomc | Feb. 23, 2017 | 370072
Pennsylvania:
Lancaster | Township of Conestoga (16-03-2652P) | The Honorable Craig C. Eshleman, Chairman, Township of Conestoga Board of Supervisors, 3959 Main Street, Conestoga, PA 17516 | Township Municipal Building, 3959 Main Street, Conestoga, PA 17516 | http://www.msc.fema.gov/lomc | Mar. 13, 2017 | 420544
Lancaster | Township of Drumore (16-03-2652P) | The Honorable Kolin D. McCauley, Chairman, Township of Drumore Board of Supervisors, 1675 Furniss Road, Drumore, PA17518 | Township Municipal Building, 1675 Furniss Road, Drumore, PA 17518 | http://www.msc.fema.gov/lomc | Mar. 13, 2017 | 421766
South Dakota:
Hughes | City of Pierre (16-08-0334P) | The Honorable Laurie Gill, Mayor, City of Pierre, 222 East Dakota Avenue, Pierre, SD 57501 | Department of Public Works, 222 East Dakota Avenue, Pierre, SD 57501 | http://www.msc.fema.gov/lomc | Mar. 21, 2017 | 460040
Pennington | City of Rapid City (16-08-0803P) | The Honorable Steve Allender, Mayor, City of Rapid City, 300 6th Street, Rapid City, SD 57701 | Public Works and Engineering Services Department, 300 6th Street, Rapid City, SD 57701 | http://www.msc.fema.gov/lomc | Feb. 23, 2017 | 465420
Pennington | City of Rapid City (16-08-0818P) | The Honorable Steve Allender, Mayor, City of Rapid City, 300 6th Street, Rapid City, SD 57701 | Public Works and Engineering Services Department, 300 6th Street, Rapid City, SD 57701 | http://www.msc.fema.gov/lomc | Feb. 27, 2017 | 465420
Tennessee: Shelby | Town of Collierville (16-04-7778P) | The Honorable Stan Joyner, Jr., Mayor, Town of Collierville, 500 Poplar View Parkway, Collierville, TN 38017 | Development Department, 500 Poplar View Parkway, Collierville, TN 38017 | http://www.msc.fema.gov/lomc | Mar. 3, 2017 | 470263
Texas:
Bexar | Unincorporated areas of Bexar County (16-06-2426P) | The Honorable Nelson W. Wolff, Bexar County Judge, 101 West Nueva Street, 10th Floor, San Antonio, TX 78205 | Bexar County Public Works Department, 233 North Pecos-La Trinidad Street, Suite 420, San Antonio, TX 78207 | http://www.msc.fema.gov/lomc | Dec. 27, 2016 | 480035
Collin | City of McKinney (16-06-1541P) | The Honorable Brian Loughmiller, Mayor, City of McKinney, P.O. Box 517, McKinney, TX 75070 | Engineering Department, 221 North Tennessee Street, McKinney, TX 75069 | http://www.msc.fema.gov/lomc | Mar. 13, 2017 | 480135
Collin | City of Wylie (16-06-1916P) | The Honorable Eric Hogue, Mayor, City of Wylie, 300 Country Club Road, Building 100, Wylie, TX 75098 | City Hall, 300 Country Club Road, Building 100, Wylie, TX 75098 | http://www.msc.fema.gov/lomc | Feb. 23, 2017 | 480759
Hays | Unincorporated areas of Hays County (16-06-2633P) | The Honorable Bert Cobb, M.D., Hays County Judge, 111 East San Antonio Street, Suite 300, San Marcos, TX 78666 | Hays County Development Services Department, 2171 Yarrington Road, San Marcos, TX 78666 | http://www.msc.fema.gov/lomc | Mar. 9, 2017 | 480321
Hidalgo | City of McAllen (16-06-2547P) | The Honorable James E. Darling, Mayor, City of McAllen, P.O. Box 220, McAllen, TX 78505 | Development Engineering Department, 311 North 15th Street, McAllen, TX 78501 | http://www.msc.fema.gov/lomc | Feb. 21, 2017 | 480343
Rockwall | City of Heath (16-06-1549P) | The Honorable Brian Berry, Mayor, City of Heath, 200 Laurence Drive, Heath, TX 75032 | City Hall, 200 Laurence Drive, Heath, TX 75032 | http://www.msc.fema.gov/lomc | Mar. 13, 2017 | 480545
Williamson | Unincorporated areas of Williamson County (16-06-0501P) | The Honorable Dan A. Gattis, Williamson County Judge, 710 South Main Street, Suite 101, Georgetown, TX 78626 | Williamson County Engineering Department, 3151 Southeast Inner Loop, Suite B, Georgetown, TX 78626 | http://www.msc.fema.gov/lomc | Mar. 2, 2017 | 481079
Utah: Morgan | City of Morgan City (16-08-1130P) | The Honorable Ray Little, Mayor, City of Morgan City, P.O. Box 1085, Morgan City, UT 84050 | Building Department, 90 West Young Street, Morgan City, UT 84050 | http://www.msc.fema.gov/lomc | Feb. 27, 2017 | 490093
Wyoming:
Sublette | Town of Pinedale (16-08-0579P) | The Honorable Robert M. Jones, Mayor, Town of Pinedale, 61 Pinedale South Road, Pinedale, WY 82941 | Town Hall, 61 Pinedale South Road, Pinedale, WY 82941 | http://www.msc.fema.gov/lomc | Feb. 21, 2017 | 560049
Sublette | Unincorporated areas of Sublette County (16-08-0579P) | The Honorable Andy Nelson, Chairman, Sublette County Board of Commissioners, 21 South Tyler Avenue, Pinedale, WY 82941 | Sublette County Courthouse, 21 South Tyler Avenue, Pinedale, WY 82941 | http://www.msc.fema.gov/lomc | Feb. 21, 2017 | 560048

[FR Doc. 2017-01098 Filed 1-18-17; 8:45 am]

BILLING CODE 9110-12-P